DEPARTMENT OF AGRICULTURE

Forest Service

Manti-La Sal National Forest, Utah Oak Creek Ridge Aspen Project

AGENCY: Forest Service, USDA.

ACTION: Notice of intent to prepare an environmental impact statement.

SUMMARY: The Forest Service will prepare an Environmental Impact Statement (EIS) to document the analysis and disclose the environmental impacts of proposed actions to:

1. Harvest approximately 1 MMBF of aspen/mixed conifer on approximately 125 acres. Burning of slash concentrations and fencing will follow treatment.

2. Chainsaw fell conifers on approximately 75 acres of existing young aspen stands.

3. Reconstruction (culvert replacement) of approximately 2.5 miles FDR 138.

DATES: Comments concerning the scope of the analysis must be received by August 1, 2002. The draft environmental impact statement is expected October 2002 and the final environmental impact statement is expected March 2003.

ADDRESSES: Send written comments to: Diane M. Cote, Sanpete Ranger District, Manti-LaSal National Forest, 540 North Main, Emphraim, Utah 84627, dcote@fs.fed.us.

For further information, mail correspondence to: Diane M. Cote, Sanpete Ranger District, Manti-LaSal National Forest, 540 North Main, Ephraim, Utah 84627, dcote@fs.fed.us.

FOR FURTHER INFORMATION CONTACT: See above addresses:

SUPPLEMENTARY INFORMATION: The Oak Ridge Project area includes portions of the Oak Creek and Dry Creek. These areas are managed as Range (RNG) under the Manti-La Sal National Forest Land and Resource Management Plan (USDA, 1986).

The project area encompasses approximately 615 total acres. The project area contains about 463 acres of aspen and aspen/mixed conifer types that could be silviculturally treated to provide a more diverse ecosystem. Drainages within the project area include Dry and Oak Creek. The Oak Creek Inventories Roadless Area is within and adjacent to the project area. Approximately 125 acres of the proposed treatments are within the Oak Creek Inventoried Roadless Area.

Forest development road (FDR) 50138 provides access through the area and to a parcel of state owned land. The proposed treatment units are adjacent to this road. This proposal has been developed through consultation with Forest Service specialists, and other individuals and agencies with interest in the resources of the area.

Purpose and Need for Action

Purpose #1—Move towards restoration of the ecological structure, function, processes, and composition of the aspen component of the landscape.

Need: Eighty-three percent of the aspen/mixed conifer stands (463 acres) in the Oak Creek Ridge Project Area are in a mid-aged to mature condition, the other 75 acres is in a young structural stage. Conifers are encroaching in these aspen stands and crowding the shade-intolerant aspen. Fire exclusion and lack of any alternate regeneration treatment over the past 100 years has caused the decline of these stands and changed the distribution of the structural stages. Converting the mature aspen/mixed conifer stands to a seedling/sapling structure will move the project area closer to the desired future condition discussed in the NFMA (National Forest Management Act) analysis.

Proposed Action

1. Harvest approximately 1 MMBF of aspen/mixed conifer on approximately 125 acres. Burning of slash concentrations and fencing will follow treatment.

2. Chainsaw fell conifers on approximately 75 acres of existing young aspen stands.

3. Reconstruction (culvert replacement) of approximately 2.5 miles FDR (Forest Development Road) 138.

Possible Alternatives

No additional alternatives other than “No Action” have been identified at this time.

Responsible Official

The Forest Supervisor, Elaine Zieroth is the responsible official for this project. The Forest Supervisor's office of the Manti-La Sal National Forest is located at 599 West Price River Drive, Price, Utah 84501, phone: 435-637-2817.

Nature of Decision To Be Made

The Forest Supervisor of the Manti-LaSal must decide whether to conduct vegetation management activities now or to defer management until a later time.

If she decides to apply vegetation management activities now, she must decide the following specific management activities:

• Which acres to treat

• What, if any, acres to treat with harvest

• What, if any, acres to treat with conifer removal

• What mitigation and/or monitoring measures to implement to meet Forest standards and minimize resource damage

• Whether to close roads not needed for resource management.

Scoping Process

Agency representatives and other interested people are invited to visit with Forest Service officials at any time during the EIS process. Two specific time periods are identified for the receipt of formal comments on the analysis. The two comment periods are: (1) During the scoping process, the next 30 days following publication of this notice in the Federal Register, and (2) During the formal review period of the Draft EIS. The comment period on the draft environmental impact statement will be 45 days from the date the Environmental Protection Agency publishes the notice of availability in the Federal Register.

Preliminary Issues

Possible impacts to the Oak Creek Inventoried roadless Area if the project is implemented as stated in the proposed action.

Comment Request

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the August 10, 2002 comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21).

Dated: June 21, 2002.
Elaine J. Zieroth,
Forest Supervisor.

[FR Doc. 02-16228 Filed 6-27-02; 8:45 am]

BILLING CODE 3410-11-M